DEPARTMENT OF COMMERCE

National Oceanic and Atmospheric Administration

RIN 0648-XD224

Marine Mammals; File No. 18537

AGENCY: National Marine Fisheries Service (NMFS), National Oceanic and Atmospheric Administration (NOAA), Commerce.

ACTION: Notice; receipt of application for permit amendment.

SUMMARY: Notice is hereby given that the Alaska Department of Fish and Game (ADF&G), Division of Wildlife Conservation, Juneau, AK, (Principal Investigator: Michael Rehberg), has applied in due form for a permit to take marine mammals for purposes of scientific research in Alaska.

DATES: Written, telefaxed, or email comments must be received on or before May 9, 2014.

ADDRESSES: The application and related documents are available for review by selecting “Records Open for Public Comment” from the Features box on the Applications and Permits for Protected Species home page, https://apps.nmfs.noaa.gov, and then selecting File No. 18537 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Courtney Smith, (301) 427-8401.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR 222-226), and the Fur Seal Act of 1966, as amended (16 U.S.C. 1151 et seq.).

This application supports continuation of ADF&G's long-term Steller sea lion (SSL) research program. The applicant requests takes during research activities that incorporate improved methodology based on previous work authorized under permit No. 14325 and subsequent modifications, including: incidental disturbance during aerial, skiff- and ground-based count and brand resight surveys; captures supporting marking, external instrument attachment, and physiology, toxicology, feeding ecology and health sampling; and permanent marking of pups and older age classes for describing vital rates and intra-/inter-Discrete Population Segment (DPS) movement. The applicant also requests takes by incidental disturbance of northern fur seals (Callorhinus ursinus), California sea lions (Zalophus californianus), and harbor (Phoca vitulina), spotted (Phoca largha), ribbon (Histriophoca fasciata), ringed (Pusa hispida) and bearded seals (Erignathus barbatus) are also requested due to proximity of isolated individuals to the study area. See tables in permit application for numbers of takes by species, stock and activity. Authorization for annual unintentional mortality of 5 SSL from the Western DPS and 10 SSL from the Eastern DPS is requested.

In compliance with the National Environmental Policy Act of 1969 (42 U.S.C. 4321 et seq.), an initial determination has been made that the effects of the activities proposed are consistent with the Preferred Alternative in the Final Programmatic Environmental Impact Statement for Steller Sea Lion and Northern Fur Seal Research (NMFS 2007) and that issuance of the permit would not have a significant adverse impact on the human environment.

Concurrent with the publication of this notice in the Federal Register, NMFS is forwarding copies of this application to the Marine Mammal Commission and its Committee of Scientific Advisors.

Dated: April 3, 2014.
Tammy C. Adams,
Acting Chief, Permits and Conservation Division, Office of Protected Resources, National Marine Fisheries Service.

[FR Doc. 2014-07844 Filed 4-8-14; 8:45 am]

BILLING CODE 3510-22-P